DEPARTMENT OF HOMELAND SECURITY

Federal Emergency Management Agency

[Docket ID FEMA-2013-0002; Internal Agency Docket No. FEMA-B-1329]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 16, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1329, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Harvey County, Kansas, and Incorporated Areas
Maps Available for Inspection Online at: www.fema.gov/preliminaryfloodhazarddata
City of Halstead | City Hall, 303 Main Street, Halstead, KS 67056.
City of Sedgwick | City Hall, 511 North Commercial Avenue, Sedgwick, KS 67135.
Unincorporated Areas of Harvey County | County Courthouse, 800 North Main Street, Newton, KS 67114.
Monroe County, Michigan (All Jurisdictions)
Maps Available for Inspection Online at: http://www.starr-team.com/starr/RegionalWorkspaces/RegionV/MonroeCountyMI/SitePages/Home.aspx
Charter Township of Berlin | 8000 Swan View Road, Newport, MI 48166.
Charter Township of Frenchtown | 2744 Vivian Road, Monroe, MI 48162.
Charter Township of Monroe | 4925 East Dunbar Road, Monroe, MI 48161.
City of Luna Pier | 4357 Buckeye Street, Luna Pier, MI 48157.
City of Monroe | 120 East First Street, Monroe, MI 48161.
City of Petersburg | 24 East Center Street, Petersburg, MI 49270.
Township of Ash | 1677 Ready Road, Carleton, MI 48117.
Township of Bedford | 8100 Jackman Road, Temperance, MI 48182.
Township of Dundee | 179 Main Street, Dundee, MI 48131.
Township of Erie | 2065 Erie Road, Erie, MI 48133.
Township of Ida | 3016 Lewis Avenue, Ida, MI 48140.
Township of Lasalle | 4111 LaPlaisance Road, LaSalle, MI 48145.
Township of London | 13613 Tuttlehill Road, Milan, MI 48160.
Township of Milan | 16444 Cone Road, Milan, MI 48160.
Township of Raisinville | 96 Ida-Maybee Road, Monroe, MI 48161.
Township of Summerfield | 26 Saline Street, Petersburg, MI 49270.
Township of Whiteford | 8000 Yankee Road, Suite 100, Ottawa Lake, MI 49267.
Village of Dundee | 350 West Monroe Street, Dundee, MI 48131.
Village of Estral Beach | 7194 Lakeview Boulevard, Newport, MI 48166.
Village of South Rockwood | 5676 Carleton-Rockwood Road, South Rockwood, MI 48179.
Olmsted County, Minnesota, and Incorporated Areas
Maps Available for Inspection Online at: http://www.starr-team.com/starr/RegionalWorkspaces/RegionV/OlmstedCoMN/SitePages/Home.aspx
City of Chatfield | Municipal Offices, 21 Southeast 2nd Street, Chatfield, MN 55923.
City of Dover | City Hall, 218 North Chatfield Street, Dover, MN 55929.
City of Rochester | City Hall, 201 4th Street Southeast, Rochester, MN 55904.
City of Stewartville | City Hall, 105 East 1st Street, Stewartville, MN 55976.
Unincorporated Areas of Olmsted County | Olmsted County Government Center, 151 4th Street Southeast, Rochester, MN 55904.
Upper Rock Watershed Columbia County, Wisconsin, and Incorporated Areas
Maps Available for Inspection Online at: http://www.starr-team.com/starr/RegionalWorkspaces/RegionV/ColumbiaRockRiverWI
City of Columbus | City Hall, 105 North Dickason Boulevard, Columbus, WI 53925.
Unincorporated Areas of Columbia County | Carl C. Frederick Administration Building, 400 DeWitt Street, Portage, WI 53901.
Village of Doylestown | Village Hall, W3005 Railroad Street, Doylestown, WI 53928.
Village of Fall River | Village Hall, 641 South Main Street, Fall River, WI 53932.
Walworth County, Wisconsin, and Incorporated Areas
Maps Available for Inspection Online at: www.starr-team.com/starr/RegionalWorkspaces/RegionV/WalworthWIPMR
City of Whitewater | City Hall, 312 West Whitewater Street, Whitewater, WI 53190.
Unincorporated Areas of Walworth County | Office of Emergency Management, 1770 County Road NN, Elkhorn, WI 53121.
Village of Darien | Village Hall, 20 North Wisconsin Avenue, Darien, WI 53114.

(Catalog of Federal Domestic Assistance No. 97.022, “Flood Insurance.”)

Dated: June 3, 2013.
Roy E. Wright,
Deputy Associate Administrator for Mitigation, Department of Homeland Security, Federal Emergency Management Agency.

[FR Doc. 2013-14265 Filed 6-14-13; 8:45 am]

BILLING CODE 9110-12-P